DEPARTMENT OF TRANSPORTATION

Surface Transportation Board

[STB Finance Docket No. 34713]

BG & CM Railroad—Acquisition and Operation Exemption—Great Northwest Railroad, Inc

BG & CM Railroad (BG & CM), a noncarrier, has filed a verified notice of exemption under 49 CFR 1150.31 to acquire and operate approximately 76.2 miles of rail line owned by Great Northwest Railroad, Inc. (GNR) in Nez Perce, Clearwater, and Lewis Counties, ID as follows: (1) From milepost 132.7 east of Lewiston to milepost 61.9 (end of line), at or near Kooskia; (2) from milepost 0.0 at Spalding to milepost 1.0 near Spalding;¹ and (3) from milepost 0.0 at Orofino to milepost 3.5 at Konkolville.

¹ Pursuant to BG & CM Railroad, Inc.—Exemption from 49 U.S.C. Subtitle IV, STB Finance Docket No. 34399, served Oct. 17, 2003, clarified Camas Prairie Railnet, Inc.—Abandonment—in Lewis, Nez Perce, and Idaho Counties, ID (Between Spalding and Grangeville, ID), STB Docket No. AB-564 (STB served May 3, 2004), BG & CM previously acquired and operated an extension of this segment (milepost 1.0 near Spalding to the end of the line at milepost 66.8 near Grangeville) as a contract carrier. BG & CM's status as a contract rather than a common carrier between milepost 1.0 and milepost 66.8 will not change as a result of this filing.

BG & CM certifies that its projected revenues will not exceed those that would qualify it as a Class III rail carrier, and that its annual revenues will not exceed $5 million.

The transaction was expected to be consummated on June 13, 2005, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34713, must be filed with the Surface Transportation Board, 1925 K Street, NW., Washington, DC 20423-0001. In addition, one copy of each pleading must be served on Charles H. Montange, 426 NW 162nd St., Seattle, WA 98177.

Board decisions and notices are available on our Web site at http://www.stb.dot.gov.

Decided: June 28, 2005.
By the Board, David M. Konschnik, Director, Office of Proceedings.
Vernon A. Williams,
Secretary.

[FR Doc. 05-13294 Filed 7-5-05; 8:45 am]

BILLING CODE 4915-01-P